DEPARTMENT OF LABOR

Employment and Training Administration

[TA-W-58,682]

Robert Bosch Fuel Systems Kentwood, MI; Notice of Termination of Investigation

Pursuant to section 221 of the Trade Act of 1974, as amended, an investigation was initiated on January 20, 2005 in response to a worker petition filed on behalf of workers at Robert Bosch Fuel Systems, Kentwood, Michigan.

The petitioning group of workers is covered by an earlier petition filed on December 12, 2005 (TA-W-58,496) that is the subject of an ongoing investigation for which a determination has not yet been issued. Further investigation in this case would duplicate efforts and serve no purpose; therefore the investigation under this petition has been terminated.

Signed at Washington, DC this 24th day of January 2006.
Richard Church,
Certifying Officer, Division of Trade Adjustment Assistance.

[FR Doc. E6-1498 Filed 2-2-06; 8:45 am]

BILLING CODE 4510-30-P